DEPARTMENT OF TRANSPORTATION

Federal Aviation Administration

14 CFR Part 39

[Docket No. FAA-2010-0433; Directorate Identifier 2009-NM-117-AD]

RIN 2120-AA64

Airworthiness Directives; McDonnell Douglas Corporation Model MD-90-30 Airplanes

AGENCY: Federal Aviation Administration (FAA), DOT.

ACTION: Notice of proposed rulemaking (NPRM).

SUMMARY: We propose to adopt a new airworthiness directive (AD) for certain Model MD-90-30 airplanes. This proposed AD would require inspecting for corrosion of the retract cylinder support fitting for the main landing gear (MLG) and the mating bore for the support fitting in the MLG trunnion fitting and performing corrective actions if necessary, and replacing cadmium-plated retract cylinder support bushings and bearings. This proposed AD results from reports of the retract cylinder support fitting for the MLG failing during gear extension and subsequently damaging the hydraulic system. We are proposing this AD to prevent corrosion and damage that could compromise the integrity of the retract cylinder support fitting for the MLG, which could adversely affect the airplane's safe landing.

DATES: We must receive comments on this proposed AD by June 10, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Roger Durbin, Aerospace Engineer, Airframe Branch, ANM-120L, FAA, Los Angeles Aircraft Certification Office, 3960 Paramount Boulevard, Lakewood, California 90712-4137; telephone (562) 627-5233; fax (562) 627-5210.

SUPPLEMENTARY INFORMATION:

Comments Invited

We invite you to send any written relevant data, views, or arguments about this proposed AD. Send your comments to an address listed under the ADDRESSES section. Include “Docket No. FAA-2010-0433; Directorate Identifier 2009-NM-117-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received reports of failure of the retract cylinder support fitting for the main landing gear (MLG) during gear extension, damaging the hydraulic system on McDonnell Douglas Corporation MD-80 series airplanes. This condition, if not corrected, could result in corrosion and damage that could compromise the integrity of the retract cylinder support fitting for the MLG, which could subsequently damage the hydraulic system and adversely affect the airplane's ability to make a safe landing.

The retract cylinder support fittings for the MLG on McDonnell Douglas Model MD-80 series airplanes have the same design as those installed on Model MD-90-30 airplanes. Therefore, Model MD-90-30 airplanes may be subject to the identified unsafe condition.

Relevant Service Information

We have reviewed Boeing Service Bulletin MD90-57-016, Revision 2, dated April 28, 2006. The service bulletin describes procedures for doing a general visual inspection of the cylinder bore in the MLG support for corrosion, and performing corrective actions if necessary.

Corrective actions include the following:

• For airplanes on which a cadmium-plated fitting is installed with or without corrosion present: Replacing the cadmium-plated retract cylinder support fitting for the MLG with an electroless nickel-plated fitting, and replacing the cadmium-plated retract cylinder support bushings and bearings for the MLG with bushings and bearings having no cadmium plating in the bore.

• For airplanes on which an electroless nickel-plated fitting is installed with no corrosion present: Installing the retained electroless nickel-plated retract cylinder support fitting for the MLG, and replacing the cadmium-plated retract cylinder support bushings and bearings for the MLG with bushings and bearings having no cadmium plating in the bore.

• For airplanes on which the electroless nickel plated fitting is installed with corrosion present: Replacing the electroless nickel-plated retract cylinder support fitting for the MLG, and replacing the cadmium-plated retract cylinder support bushings and bearings for the MLG with bushings and bearings having no cadmium plating in the bore.

For airplanes on which an electroless nickel-plated fitting is installed in accordance with a previous issue of the service bulletin, no further work is required if the following actions have been accomplished.

• An inspection for corrosion and damage of the cylinder bore in the MLG support has been performed.

• The cadmium-plated retract cylinder support fitting for the MLG has been replaced with an electroless nickel-plated fitting.

• An electroless nickel-plated retract cylinder support fitting for the MLG is already installed and has no corrosion.

• The cadmium-plated retract cylinder support bushings and bearings for the MLG have been replaced with bushings and bearings with no cadmium plating in the bore.

For airplanes on which the cadmium-plated fitting is installed, and on which the cadmium-plated retract cylinder support fitting for the MLG was reinstalled and on which a previous issue of the service bulletin was performed, the service bulletin specifies:

• Removing the cadmium-plated retract cylinder support fitting for the MLG and replacing with an electroless nickel-plated fitting.

• Verifying that the cadmium-plated retract cylinder support bushings and bearings for the MLG have been replaced with bushings and bearings with no cadmium plating in the bore.

FAA's Determination and Requirements of this Proposed AD

We are proposing this AD because we evaluated all relevant information and determined the unsafe condition described previously is likely to exist or develop in other products of these same type designs. This proposed AD would require accomplishing the actions specified in the service information described previously.

Costs of Compliance

We estimate that this proposed AD would affect 16 airplanes of U.S. registry. The following table provides the estimated costs for U.S. operators to comply with this proposed AD.

Table—Estimated Costs
Action | Work hours | Average labor rate per hour | Parts | Cost per product | Number of U.S.-registered airplanes | Fleet cost
Inspection | 1 | $85 | $0 | $85 | 16 | $1,360
Replacement | 8 | 85 | 24,580 | 25,260 | 16 | 404,160

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

McDonnell Douglas Corporation: Docket No. FAA-2010-0433; Directorate Identifier 2009-NM-117-AD.

Comments Due Date

(a) We must receive comments by June 10, 2010.

Affected ADs

(b) None.

Applicability

(c) This AD applies to McDonnell Douglas Corporation Model MD-90-30 airplanes, certificated in any category, as identified in Boeing Service Bulletin MD90-57-016, Revision 2, dated April 28, 2006.

Subject

(d) Air Transport Association (ATA) of America Code 57: Wings.

Unsafe Condition

(e) This AD results from reports of the retract cylinder support fitting for the main landing gear (MLG) failing during gear extension, and subsequently damaging the hydraulic system. The Federal Aviation Administration is issuing this AD to prevent corrosion and damage that could compromise the integrity of the retract cylinder support fitting for the MLG, which could adversely affect the airplane's safe landing.

Compliance

(f) You are responsible for having the actions required by this AD performed within the compliance times specified, unless the actions have already been done.

Inspection and Corrective Actions

(g) Before the accumulation of 30,000 total flight hours, or within 15,000 flight hours after the effective date of this AD, whichever occurs later, do a general visual inspection of the retract cylinder support fitting for the MLG and the mating bore in the MLG trunion fitting for corrosion, install bushings and bearings without cadmium plating in the bore, and do all applicable corrective actions, in accordance with Configuration 1 of the Accomplishment Instructions of Boeing Service Bulletin MD90-57-016, Revision 2, dated April 28, 2006. Do all applicable corrective actions before further flight.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(h) Doing a general visual inspection, installing bushings and bearings, and doing all applicable corrective actions is also acceptable for compliance with the requirements of paragraph (g) of this AD if done before the effective date of this AD in accordance with the Accomplishment Instructions of Boeing Service Bulletin MD90-57-016, Revision 1, dated October 26, 2005.

(i) Doing a general visual inspection, installing bushings and bearings, and doing all applicable corrective actions is also acceptable for compliance with the requirements of paragraph (g) of this AD if done before the effective date of this AD in accordance with the Accomplishment Instructions of Boeing Service Bulletin MD90-57-016, dated September 18, 2002, provided that before the accumulation of 30,000 total flight hours, or within 15,000 flight hours after the effective date of this AD, whichever occurs later, electroless nickel fittings are installed, and bushings and bearings without cadmium plating in the bore are installed in accordance with the Accomplishment Instructions of any of the service bulletins listed in Table 1 of this AD.

Table 1—Acceptable Service Information
Document | Revision | Date
Boeing Service Bulletin MD90-57-016 | 0 | September 18, 2002.
Boeing Service Bulletin MD90-57-016 | 1 | October 26, 2005.
Boeing Service Bulletin MD90-57-016 | 2 | April 28, 2006.

Alternative Methods of Compliance (AMOCs)

(j)(1) The Manager, Los Angeles Aircraft Certification Office (ACO), FAA, has the authority to approve AMOCs for this AD, if requested using the procedures found in 14 CFR 39.19. Send information to ATTN: Roger Durbin, Aerospace Engineer, Airframe Branch, ANM-120L, FAA, Los Angeles Aircraft Certification Office, 3960 Paramount Boulevard, Lakewood, California 90712-4137; telephone (562) 627-5233; fax (562) 627-5210.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) An AMOC that provides an acceptable level of safety may be used for any repair required by this AD, if it is approved by Boeing Commercial Airplanes Organization Designation Authorization (ODA) who has been authorized by the Manager, Los Angeles ACO, to make those findings. For a repair method to be approved, the repair must meet the certification basis of the airplane and 14 CFR 25.571, Amendment 45, and the approval must specifically refer to this AD.

Issued in Renton, Washington, on April 16, 2010.
Ali Bahrami,
Manager, Transport Airplane Directorate, Aircraft Certification Service.

[FR Doc. 2010-9572 Filed 4-23-10; 8:45 am]

BILLING CODE 4910-13-P